NATIONAL SCIENCE FOUNDATION

Proposal Review Panel for Materials Research; Notice of Meeting

In accordance with the Federal Advisory Committee Act (Pub. L. 92-463 as amended), the National Science Foundation announces the following meeting:

Name: Proposal Review Panel for Materials Research (1203).

Dates & Times: November 13, 2006; 7:30 a.m.-9 p.m.; November 14, 2006; 7:45 a.m.-3:30 p.m.

Place: University of Southern Mississippi, Hattiesburg, MS

Type of Meeting: Part-open.

Contact Person: Dr. Thomas Rieker, Program Director, Materials Research Science and Engineering Centers Programs, Division of Materials Research, Room 1065, National Science Foundation, 4201 Wilson Boulevard, Arlington, VA 22230, Telephone (703) 292-4914.

Purpose of Meeting: To provide advice and recommendations concerning further support of the Materials Research Science and Engineering Center.

Agenda

Monday, November 13, 2006

7:45 a.m.-8:45 a.m.

Closed—Executive session.

8:45 a.m.-4:30 p.m.

Open—Review of the Materials Research Science and Engineering Center at the University of Southern Mississippi.

4:30 p.m.-5:45 p.m.

Closed—Executive session.

7 p.m.-9 p.m.

Open—Dinner.

Tuesday, November 14, 2006

8 a.m.-9 a.m.

Closed—Executive session.

9 a.m.-10 a.m.

Open—Review of the Materials Research Science and Engineering Center at the University of Southern Mississippi.

10 a.m.-3:30 p.m.

Closed—Executive Session, Draft and Review Report.

Reason for Closing:The work being reviewed may include information of a proprietary or confidential nature, including technical information; financial data, such as salaries and personal information concerning individuals associated with the proposals. These matters are exempt under 5 U.S.C. 552b(c), (4) and (6) of the Government in the Sunshine Act.

Dated: October 4, 2006.
Susanne Bolton,
Committee Management Officer.

[FR Doc. 06-8576 Filed 10-10-06; 8:45 am]

BILLING CODE 7555-01-M